NATIONAL FOUNDATION ON THE ARTS AND HUMANITIES

Cooperative Agreement for the Continued Management and Administration of a Career Development Program for Stage Directors and Designers

AGENCY: National Endowment for the Arts.

ACTION: Notification of Availability.

SUMMARY: The National Endowment for the Arts is requesting proposals leading to the award of one (1) Cooperative Agreement for the continued management and administration of a Career Development Program for Stage Directors, and a Career Development Program for Stage Designers. These Programs enable emerging Stage Directors and Stage Designers to work in situations, including residency and/or mentoring activities, that will develop their artistic skills and enhance their contributions to America's nonprofit professional arts institutions and their audiences. The recipient of the Cooperative Agreement will be responsible for all aspects of the program including the solicitation of applications from Stage Directors and Stage Designers, convening of selection panels, administering twelve awards of $17, 500 each to the successful applicants, and the development and coordination of appropriate residencies or other appropriate placement situations for the Directors and Designers. Those interested in receiving the Solicitation package should reference Program Solicitation PS 00-03 in their written request and include two (2) self-addressed labels. Verbal requests for the Solicitation will not be honored. It is anticipated that the Program Solicitation will also be posted on the Endowment's Web site at http://www.arts.gov.

DATES: Program Solicitations PS 00-03 is scheduled for release approximately May 1, 2000 with proposals due by May 31, 2000.

ADDRESSES: Requests for the Solicitation should be addressed to the National Endowment for the Arts, Grants & Contracts Office, Room 618, 1100 Pennsylvania Ave., NW, Washington, D.C. 20506.

FOR FURTHER INFORMATION CONTACT: William Hummel, Grants & Contracts Office, National Endowment for the Arts, Room 618, 1100 Pennsylvania Ave., NW, Washington, D.C. 20506 (202-682-5482).

William I. Hummel,
Coordinator, Cooperative Agreements.

[FR Doc. 00-9513 Filed 4-14-00; 8:45 am]

BILLING CODE 7537-01-M